FEDERAL COMMUNICATIONS COMMISSION

47 CFR Part 73

[DA 02-1948; MB Docket No. 02-225, RM-10517; MB Docket No. 02-226, RM-10459; MB Docket No. 02-227, RM-10467; MB Docket No. 02-228, RM-10460]

Radio Broadcasting Services; Crawfordville, GA, Groom, TX, Sonora, TX, and Spur, TX

AGENCY: Federal Communications Commission.

ACTION: Proposed rule.

SUMMARY: This document proposes four allotments in response to four separate petitions. The Audio Division requests comments on these proposals. Ritz Radio proposes the allotment of Channel 234A at Crawfordville, Georgia, as the community's first local aural transmission service (RM-10517). Channel 234A can be allotted to Crawfordville with a site restriction 6 kilometers (3.7 miles) southwest of the community at coordinates 33-31-18 and 82-56-52. Maurice Salsa requests the allotment of Channel 223A at Groom, Texas (RM-10459). Channel 223A can be allotted to Groom with a site restriction 7.5 kilometers (4.6 miles) east of the community at coordinates 35-10-49 and 101-01-46. Katherine Pyeatt proposes the allotment of Channel 272A at Sonora, Texas (RM-10467). Channel 272A can be allotted to Sonora with a site restriction 11.2 kilometers (7 miles) south of the community at coordinates 30-28-07 and 100-36-54. Mexican concurrence will be requested for the allotment at Sonora, Texas. Maurice Salsa requests the allotment of Channel 254A at Spur, Texas (RM-10460). Channel 254A can be allotted to Spur without a site restriction at coordinates 33-28-35 and 100-51-19.

DATES: Comments must be filed on or before September 30, 2002, and reply comments on or before October 15, 2002.

ADDRESSES: Federal Communications Commission, Washington, DC 20554. In addition to filing comments with the FCC, interested parties should serve the petitioners, as follows: Ritz Radio, Lisabeth B. Greene, 4103 Brushy Creek Road Greer, South Carolina 29650 (RM-10517); Maurice Salsa, 5615 Evergreen Valley Drive, Kingwood, Texas 77345 (RM-10459 and RM-10460); Katherine Pyeatt, 6655 Aintree Circle, Dallas, Texas 75214 (RM-10467).

FOR FURTHER INFORMATION CONTACT: Kathleen Scheuerle, Media Bureau, (202) 418-2180.

SUPPLEMENTARY INFORMATION: This is a synopsis of the Commission's Notice of Proposed Rule Making, MB Docket No. 02-225, MB Docket No. 02-226, MB Docket No. 02-227, and MB Docket No. 02-228, adopted July 31, 2002, and released August 9, 2002. The full text of this Commission decision is available for inspection and copying during normal business hours in the FCC Reference Information Center (Room CY-A257), 445 12th Street, SW., Washington, DC. The complete text of this decision may also be purchased from the Commission's copy contractor, Qualex International, Portals II, 445 12th Street SW., Room CY-B402, Washington, DC 20554.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Georgia, is amended by adding Crawfordville, Channel 234A.

3. Section 73.202(b), the Table of FM Allotments under Texas, is amended by adding Groom, Channel 223A, by adding Channel 272A at Sonora and by adding Spur, Channel 254A.

Federal Communications Commission.
John A. Karousos,
Assistant Chief, Audio Division, Media Bureau.

[FR Doc. 02-21064 Filed 8-19-02; 8:45 am]

BILLING CODE 6712-01-P